FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 15, 2000.

A. Federal Reserve Bank of Atlanta (Cynthia C. Goodwin, Vice President), 104 Marietta Street, N.W., Atlanta, Georgia 30303-2713:

1. Phillip Eugene Kauffman, Barbara Kauffman; Christine Kauffman; Jason Kauffman; Ryan Kauffman; all of Carrollton, Georgia; and Scott Kauffman, Villa Rica, Georgia; all to acquire additional voting shares of Peoples Bancorp, Inc., Carrollton, Georgia, and thereby indirectly acquire additional voting shares of Peoples Bank of West Georgia, Carrollton, Georgia.

Board of Governors of the Federal Reserve System, July 26, 2000.
Jennifer J. Johnson,
Secretary of the Board.

[FR Doc. 00-19311 Filed 8-3-00; 8:45 am]

BILLING CODE 6210-01-P